DEPARTMENT OF HEALTH AND HUMAN SERVICES

Centers for Medicare & Medicaid Services

[CMS-2728, CMS-2540-96, CMS-1728-94]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection.

Title of Information Collection: End Stage Renal Disease Medical Evidence Report Medicare Entitlement and/or Patient Registration and Supporting Regulations in 42 CFR 405.2133.

Form No.: CMS-2728 (OMB# 0938-0046).

Use: This form captures the necessary medical information required to determine Medicare eligibility of an end stage renal disease claimant. It also captures the specific medical data required for research and policy decisions on this population as required by law.

Frequency: Weekly, Monthly, Quarterly, Semi-annually and Annually.

Affected Public: Individuals or Households, Business or other for-profit, Not-for-profit institutions.

Number of Respondents: 100,000.

Total Annual Responses: 100,000.

Total Annual Hours: 75,000.

2. Type of Information Collection Request: Extension of a currently approved collection.

Title of Information Collection: Skilled Nursing Facility Cost Report and Supporting Regulations in 42 CFR 413.20, 413.24, and 413.106.

Form No.: CMS-2540-96 (OMB 0938-0463).

Use: Form CMS-2540-96 is the form used by skilled nursing facilities participating in the Medicare program. This form reports the health care costs used to determine the amount of reimbursable costs for services rendered to Medicare beneficiaries.

Frequency: Annually.

Affected Public: Businesses or other for-profit. Not-for-profit institutions and State, Local or Tribal Government.

Number of Respondents: 13,000.

Total Annual Responses: 13,000.

Total Annual Hours: 2,480,000.

3. Type of Information Collection Request: Revision of a currently approved collection.

Title of Information Collection: Home Health Agency Cost Report and Supporting Regulations in 42 CFR 413.20, 413.24 and 413.106.

Form No.: CMS-1728 (OMB No. 0938-0022).

Use: Participating providers are required to submit annual information to CMS in order to achieve settlement of costs for health care services rendered to Medicare beneficiaries. The CMS-1728 is the form used by Home Health Agencies to report their health care costs to determine the amount reimbursable for services furnished to Medicare beneficiaries.

Frequency: Annually.

Affected Public: Business or other for profit, Not for profit institutions, and State, Local or Tribal Gov.

Number of Respondents: 7,310.

Total Annual Responses: 7,310.

Total Annual Hours Requested: 1,311,060.

To obtain copies of the supporting statement and any related forms for the proposed paperwork collections referenced above, access CMS's Web site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Melissa Musotto, Room C5-14-03, 7500 Security Boulevard, Baltimore, Maryland 21244-1850.

Dated: November 20, 2003.
Melissa Musotto,
Acting Paperwork Reduction Act Team Leader, Office of Strategic Operations and Strategic Affairs, Division of Regulations Development and Issuances.

[FR Doc. 03-29822 Filed 11-28-03; 8:45 am]

BILLING CODE 4120-03-P